DEPARTMENT OF DEFENSE

Office of the Secretary

[Transmittal No. 22-0O]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives with attached Transmittal 22-0O.

Dated: June 24, 2024.
Aaron T. Siegel,
Alternate OSD Federal Register Liaison Officer, Department of Defense.

BILLING CODE 6001-FR-P

BILLING CODE 6001-FR-C

Transmittal No. 22-0O

REPORT OF ENHANCEMENT OR UPGRADE OF SENSITIVITY OF TECHNOLOGY OR CAPABILITY (SEC. 36(B)(5)(C), AECA)

(i) Purchaser: Government of Italy

(ii) Sec. 36(b)(1), AECA Transmittal No.: 08-60

Date: August 1, 2008

Implementing Agency: Air Force

(iii) Description: On August 1, 2008, Congress was notified by Congressional certification transmittal number 08-60 of the possible sale, under Section 36(b)(1) of the Arms Export Control Act, of 4 MQ-9 Unmanned Aerial Vehicles (UAV), 3 Mobile Ground Control Stations, five years of maintenance support, engineering support, test equipment, ground support, operational flight test support, communications equipment, technical assistance, personnel training/equipment, spare and repair parts, and other related elements of logistics support. These UAVs included AN/DPY-1 Synthetic Aperture Radar/Ground Moving Target Indicator (SAR/GMTI) systems with 0.3 to 3 meter resolution. The estimated total cost was $330 million. Major Defense Equipment (MDE) constituted $50 million of this total.

On November 18, 2009, Congress was notified by Congressional certification transmittal number 09-60 of the possible sale, under Section 36(b)(1) of the Arms Export Control Act, of two unarmed MQ-9 Unmanned Aerial Vehicles (UAVs), one (1) Mobile Ground Control Station, maintenance support, engineering support, test equipment, ground support, operational flight test support, communications equipment, technical assistance, personnel training/equipment, spare and repair parts, and other related elements of logistics support. These UAVs included AN/DPY-1 Synthetic Aperture Radar/Ground Moving Target Indicator (SAR/GMTI) systems with 0.1 to 3 meter resolution. The MDE value increased to $86 million. The total case value increased to $393 million.

On December 17, 2009, Congress was notified by Congressional certification transmittal number 0C-09 of the possible sale, under Section 36(b)(5)(a) of the Arms Export Control Act, of a performance upgrade of the AN/DPY-1 SAR/GMTI systems aboard the four MQ-9s UAVs previously notified on transmittal 08-60 from 0.3 to 3 meter resolution to the same 0.1 to 3 meter resolution of the two MQ-9s notified on transmittal 09-60. There was no increase in cost of MDE for this upgrade. The total case value did not increase.

On December 4, 2019, Congress was notified by Congressional certification transmittal number 20-0A of the possible sale, under Section 36(b)(5)(a) of the Arms Export Control Act, of the retrofit of five (5) existing MQ-9A Block 1 Unmanned Aerial Vehicles (UAV) to Block 5; retrofit of two (2) existing MGCS Block 30; three (3) MQ-9A Block 5; eight (8) Multi-Spectral Targeting Systems (MTS-B) AN/DAS-1A; eight (8) General Atomics AN/APY-8 Lynx (exportable) Synthetic Aperture Radar/Ground Moving Target Indicator (SAR/GMTI) Systems with Maritime Wide Area Search (MWAS) capability; two (2) Mobile Ground Control Station (MGCS) Block 30; and twenty-seven (27) Honeywell H-764 Adaptive Configurable Embedded Global Positioning System/Inertial Guidance Units (EGI) with Selective Availability Anti-Spoofing Module (SAASM) (24 installed, 3 spares). The retrofit, addition of aircraft, and inclusion of MDE not enumerated in the previous notifications resulted in a net increase in MDE costs of $180 million and non-MDE costs of $138 million. The MDE value increased to $266 million. The total case value increased to $711 million.

This transmittal reports the addition of MDE that should have been included in the original notification: five (5) Multi-Spectral Targeting Systems (MTS-B) AN/DAS-1A. In addition, the original notification should have included an additional $6 million in total case value. This transmittal further reports the addition of the following MDE items: one (1) MQ-9A Block 5; eight (8) AN/DAS-4 Multi-Spectral Targeting Systems-D (MTS-D); and seven (7) Honeywell H-764 or equivalent Embedded Global Positioning Systems/Inertial Navigation Systems (GPS/INS) (EGI). The following non-MDE items will also be included: MQ-9 engines; ARC-210 radios; AN/APX-119 Identification Friend or Foe (IFF) transponders; KY-100M Narrowband/wideband cryptographic devices; Ku-band SATCOM GA-ASI Transportable Earth Stations (GATES); ROVER 6Si and VORTEX transceivers; KIV-77 Mode 4/5 IFF cryptographic appliques; Ruggedized Aircraft Maintenance Test Stations (RAMTS); C-band ground data terminals; and multi-spectral targeting system (MTS) turret and electronics units; as well as additional aircraft and munitions support and support equipment; secure communications equipment; spare and repair parts, consumables and accessories; maintenance and maintenance support; personnel training and training equipment; and U.S. Government and contractor engineering, technical and logistics support services. The MDE value will increase by $42 million to $308 million. The total case value will increase by $98 million to $809 million.

(iv) Significance: This notification is being provided as the additional MDE items were not enumerated in the original notification. The inclusion of this MDE represents an increase in capability over what was previously notified. The proposed articles and services will support Italy's efforts to build intelligence, surveillance, and reconnaissance (ISR) and strike capabilities.

(v) Justification: This proposed sale will support U.S. foreign policy and national security by helping to improve the security of a NATO ally, which is an important partner for political stability and economic progress in Europe. Italy requests these capabilities to provide for the defense of deployed troops, regional security, and interoperability with the United States.

(vi) Sensitivity of Technology:

The Raytheon Multi-Spectral Targeting System-D (MTS-D) AN/DAS-4 integrates electro-optical (E.O.), infrared (IR), laser designation and laser illumination capabilities to provide detection, ranging, and tracking capabilities specifically for high-altitude applications. This advanced E.O. and IR system provides long-range surveillance, high altitude target acquisition, tracking, range finding, and laser designation for the Hellfire missile and for all tri-service and NATO laser-guided munitions. The MTS-D provides greater target location accuracy than the MTS-B. This potential sale includes spare turret and electronics units.

The Embedded GPS/INS (EGI) with Selective Availability Anti-Spoofing Module (SAASM)—or M-Code receiver when available—is a self-contained navigation system that provides the following: acceleration, velocity, position, attitude, platform azimuth, magnetic and true heading, altitude, body angular rates, time tags, and coordinated universal time (UTC) synchronized time. SAASM or M-Code enables the GPS receiver access to the encrypted P (Y or M) signal, providing protection against active spoofing attacks.

The ARC-210 UHF/VHF secure radio is a voice communications radio system that can operate in either normal, secure, and/or jam-resistant modes.

The AN/APX-119 is an Identification Friend or Foe (IFF) transponder that provides military aircraft with a secure combat identification capability to help reduce fratricide and enhance battlespace awareness, while providing safe access to civilian airspace.

The KY-100M is a lightweight terminal for secure voice and data communications. The KY-100M provides wideband/narrowband half-duplex communication. Operating in tactical ground, marine and airborne applications, the KY-100M enables secure communication with a broad range of radio and satellite equipment.

The C-Band Line-of-Sight (LOS) Ground Data Terminals and Ku-Band SATCOM GA-ASI Transportable Earth Station (GATES) provide command, control, and data acquisition for the MQ-9B.

The L3Harris ROVER 6Si transceiver is a secure real-time, full-motion video (FMV) surveillance, voice, and data communications transceiver. It provides expanded frequencies and additional processing resources from previous ROVER versions, allowing increased levels of interoperability with numerous manned and unmanned airborne platforms.

The L3Harris VORTEX transceiver is a secure real-time, full-motion video (FMV) surveillance, voice, and data communications transceiver and is interoperable with ROVER, most UAVs, targeting pods, and other waveforms. The transceiver's band and channel diversity provides link redundancy, better reception, and resiliency to platform shading, multipath interference, line-of-sight blockages, and radio frequency interference.

The KIV-77 Mode 5 crypto applique computer for IFF is Type 1 certified by the National Security Agency and provides information assurance for both legacy Mode 4 and new Mode 5 IFF equipment. The KIV-77 is used to store the classified keys.

The Sensitivity of Technology Statement contained in the original notification applies to additional items reported here.

The highest level of classification of defense articles, components, and services included in this potential sale is SECRET.

(vii) Date Report Delivered to Congress: September 1, 2022

[FR Doc. 2024-14184 Filed 6-27-24; 8:45 am]

BILLING CODE 6001-FR-P